DEPARTMENT OF THE INTERIOR

Bureau of Land Management

[NV-010-1990-EX]

Notice of Availability for the South Operations Area Project Amendment Draft Environmental Impact Statement and Notice of Comment Period and Public Meeting

AGENCY: Bureau of Land Management.

ACTION: Notice.

SUMMARY: Pursuant to section 102(2)(C) of the National Environmental Policy Act, 40 CFR 1500-1508 and 43 CFR 3809, notice is given that the Bureau of Land Management has prepared, with the assistance of a third-party consultant, a Draft Environmental Impact Statement on Newmont's proposed South Operations Area Project Amendment in northeastern Nevada, and has made copies of the document available for public review. The Draft Environmental Impact Statement analyzes the potential environmental impacts that could result from the expansion and deepening of the Gold Quarry open-pit mine and expansion of mine facilities and extension of mine dewatering for ten years beyond the current permit.

DATES: Written comments on the Draft Environmental Impact Statement will be accepted until close of business on October 31, 2000. A public meeting for oral and written comments is scheduled to be held: September 26, 2000 in Elko, Nevada, at the Bureau of Land Management Office, 3900 E. Idaho Street at 5:00 p.m.

ADDRESSES: Written comments on the Draft Environmental Impact Statement should be addressed to: Bureau of Land Management, Elko Field Office, Attn: Roger Congdon, Environmental Impact Statement Coordinator, 3900 E. Idaho Street, Elko, NV 89801. The Draft Environmental Impact Statement is available for inspection at the following locations: Bureau of Land Management Nevada State Office (Reno), Bureau of Land Management Elko Field Office, Carson City and Elko County libraries, the University of Nevada libraries in Reno and Las Vegas, and the Great Basin College library in Elko. It is also available from the Bureau of Land Management, Elko Field Office internet site at www.nv.blm.gov/elko.

FOR FURTHER INFORMATION CONTACT: For additional information, write to the above address or call Roger Congdon at (775) 753-0200.

SUPPLEMENTARY INFORMATION: Newmont proposes to continue operations at the South Operations Area Project for an additional ten years. The mine expansion would involve an additional disturbance of 839 acres of public land and 553 acres of private land. The agency preferred alternative consists of the proposed action plus backfilling of the Mac pit, one of two small, inactive open pit mines within the project boundary.

A copy of the Draft Environmental Impact Statement has been sent to all individuals, agencies, and groups who have expressed interest in the project or as mandated by regulation or policy. A limited number of copies are available upon request from the Bureau of Land Management at the address listed above. The Environmental Impact Statement is also available at the Elko Bureau of Land Management website: www.nv.blm.gov/elko. Public participation has occurred during the Environmental Impact Statement process. A Notice of Intent was filed in the Federal Register in June 1997 and an open scoping period was held for 30 days. A public scoping meeting to solicit comments and ideas was held in July 1997. All comments presented to the Bureau of Land Management throughout the Environmental Impact Statement process have been considered.

Dated: August 24, 2000.
Helen Hankins,
Field Manager.

[FR Doc. 00-22285 Filed 8-31-00; 8:45 am]

BILLING CODE 4310-HC-P